DEPARTMENT OF JUSTICE

Notice of Lodging of Proposed Consent Decree Under the Clean Air Act

On May 17, 2017, the Department of Justice lodged a proposed consent decree with the United States District Court for the Southern District of Texas in the lawsuit entitled United States and State of Texas v. Vopak Terminal Deer Park Inc. and Vopak Logistics Services USA Inc., Civil Action No. 4:17-cv-1518.

In this action, the United States, on behalf of the U.S. Environmental Protection Agency, together with the State of Texas, filed a Complaint and proposed Consent Decree pertaining to Clean Air Act violations at a bulk chemical storage tank facility located on the Houston Ship Channel that is owned and operated by Vopak Terminals North America Inc. and Vopak Logistic Services USA Inc. (collectively, “Vopak”). In the joint Complaint, the U.S. and the State of Texas allege violations of (1) the New Source Performance Standards (“NSPS”) requirements under Section 111 of the Clean Air Act (“CAA”) and the implementing regulations, promulgated at 40 CFR part 60, subparts A, Ka, and Kb; (2) the National Emission Standards for Hazardous Air Pollutants requirements under Section 112 of the CAA, 42 U.S.C. 7412, and the implementing regulations promulgated at 40 CFR part 63, subparts A, DD, and EEEE; (3) the operating permit requirements of Title V of the CAA, and the implementing regulations; (4) the federally enforceable Texas State Implementation Plan; and (5) the Facility's operating permit, issued by the Texas Commission on Environmental Quality.

Under the proposed settlement, Vopak agrees to pay $2.5 million in civil penalties, split evenly between the United States and the State of Texas and $40,000 in attorney's fees to the State of Texas. In addition, the settlement requires Vopak to implement a range of injunctive relief measures, including: (1) Constructing and operating a flare and other emission controls at its wastewater treatment system; (2) implementing an advanced tank inspection program at its tank terminal; (3) engaging a third party auditor to review Vopak's waste minimization practices and to monitor Vopak's compliance with the settlement; and (4) undertaking various other measures to bring the facility into compliance with the Clean Air Act.

The publication of this notice opens a period for public comment on the consent decree. Comments should be addressed to the Acting Assistant Attorney General, Environment and Natural Resources Division, and should refer to United States and State of Texas v. Vopak Terminal Deer Park Inc. and Vopak Logistics Services USA Inc., Civil Action No. 4:17-cv-1518, D.J. Ref. No. 90-5-2-1-11406. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $24.50 (25 cents per page reproduction cost) payable to the United States Treasury.

Thomas P. Carroll,
Assistant Section Chief, Environmental Enforcement Section, Environment and Natural Resources Division.

[FR Doc. 2017-10467 Filed 5-22-17; 8:45 am]

BILLING CODE 4410-15-P